DEPARTMENT OF HEALTH AND HUMAN SERVICES

Centers for Disease Control and Prevention

42 CFR Part 71

Foreign Quarantine

AGENCY: Centers for Disease Control and Prevention (CDC), Department of Health and Human Services (HHS).

ACTION: Amendment of February 4, 2004, order to embargo bird and bird products imported from Malaysia.

SUMMARY: On February 4, 2004, the Centers for Disease Control and Prevention (CDC) issued an order immediately banning the import of all birds (Class: Aves) from specified Southeast Asian countries, subject to limited exemptions for pet birds and certain bird-derived products. CDC took this step because birds from these countries potentially can infect humans with avian influenza (Influenza A (H5N1)). The February 4 order complemented a similar action taken by the U.S. Department of Agriculture (USDA), Animal and Plant Health Inspection Service (APHIS). On March 10, 2004, CDC lifted the embargo of birds and bird products from Hong Kong Special Administrative Region because of the documented public health and animal health measures taken by Hong Kong officials to prevent spread of the outbreak within Hong Kong and the absence of avian influenza cases in Hong Kong's domestic and wild bird populations. APHIS took a similar action. CDC and APHIS are now imposing an embargo on birds and bird products from Malaysia because of the documented cases of Influenza A (H5N1) in poultry in Malaysia. All other portions of the February 4, 2004, order and March 10, 2004, amendment remain in effect until further notice.

DATES: This action is effective on September 28, 2004 and will remain in effect until further notice.

FOR FURTHER INFORMATION CONTACT: Paul Arguin, National Center for Infectious Diseases, Centers for Disease Control and Prevention, Mailstop C-14, 1600 Clifton Road, Atlanta, GA 30330, telephone, 404-498-1600.

SUPPLEMENTARY INFORMATION:

Background

On August 19, 2004, the Office of International Epizootics (OIE), an international organization that reports the occurrence of animal diseases detected worldwide, listed Malaysia among the countries in which an outbreak of avian influenza was occurring. According to the OIE emergency report, there was a laboratory-confirmed report of H5N1 influenza virus on one farm in Malaysia at Kelantan State, Tumpat district, Pasir Pekan village. The initial flock of village chickens consisted of 60 birds of mixed ages, reared free range. Within a 1-km radius of the affected flock there are another 103 village chickens, 62 birds of mixed species and 8 ducks (173 birds total). On September 9, 2004, OIE reported a second laboratory-confirmed occurrence of H5N1 influenza in a flock of birds located in an area 5 kilometers from the previously infected flock. The susceptible avian population within the village included 1,608 chickens, 68 bantam chickens, 4 turkeys, 93 ducks, 9 geese, 60 quail, and 193 other species (2,035 birds total).

The government of Malaysia has instituted a number of control measures, including depopulation of poultry and birds within a one-kilometer radius of the infective flock; quarantine and clinical surveillance within a 10-kilometer radius of the inflected flock; and restrictions on the movement of birds and their products to other states within Malaysia.

Introduction of influenza A (H5N1)-infected birds into the United States could lead to outbreaks of disease in the human population, a significant public health threat. Banning the importation of all avian species from affected countries, including Malaysia, is an effective means of limiting this threat. CDC is therefore taking this action to reduce the chance of introduction or spread of influenza A (H5N1).

Immediate Action

Therefore, pursuant to 42 CFR 71.32(b), the February 4, 2004, order is amended to add Malaysia to the list of countries subject to that order's embargo of birds and products derived from birds (including hatching eggs). All other portions of the February 4, 2004 order (69 FR 7165, Feb. 13, 2004) and the March 10, 2004 amendment (69 FR 12975, Mar. 19, 2004) shall remain in effect until further notice.

Julie Louise Gerberding,
Director, Centers for Disease Control and Prevention.

[FR Doc. 04-22258 Filed 10-1-04; 8:45 am]

BILLING CODE 4160-17-P